NUCLEAR REGULATORY COMMISSION

Application for a License To Export High-Enriched Uranium

Pursuant to 10 CFR 110.70(c) “Public notice of receipt of an application,” please take notice that the Nuclear Regulatory Commission has received the following request for an export license. Copies of the request are available electronically through ADAMS and can be accessed through the Public Electronic Reading Room (PERR) link http://www.nrc.gov/NRC/ADAMS/index.html at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 FR 49139 (Aug. 28, 2007). Information about filing electronically is available on the NRC's public Web site at http://www.nrc.gov/site-help/e-submittals.html. To ensure timely electronic filing, at least five days prior to the filing deadline, the petitioner/requestor should contact the Office of the Secretary by e-mail at HEARINGDOCKET@NRC.GOV, or by calling (301) 415-1677, to request a digital ID certificate and allow for the creation of an electronic docket.

In addition to a request for hearing or petition for leave to intervene, written comments, in accordance with 10 CFR 110.81, should be submitted within thirty (30) days after publication of this notice in the Federal Register to Office of the Secretary, U.S. Nuclear Regulatory Commission, Washington, DC 20555, Attention: Rulemaking and Adjudications.

The information concerning this application follows.

NRC Export License Application
Name of applicant Date of application Date received Application No. Docket No. | Description of material: Material type | Description of material: Total quantity | Description of material: End use | Description of material: Recipient country
DOE/NNSA-Y-12 National Security Complex, March 3, 2010 March 9, 2010 XSNM3633 11005854 | High-Enriched Uranium (93.35%) | 160.0 kilograms uranium (149.36 kilograms U-235) | To fabricate fuel elements in France for use as fuel in the Institut Laue—Langevin (ILL) High Flux Reactor (HFR) in France | France.

For the Nuclear Regulatory Commission.
Dated this 24th day of March 2010 at Rockville, Maryland.
Scott W. Moore,
Deputy Director, Office of International Programs.

[FR Doc. 2010-7023 Filed 3-29-10; 8:45 am]

BILLING CODE 7590-01-P